DEPARTMENT OF THE INTERIOR

Fish and Wildlife Service

[FWS-R6-ES-2008-N0159; 60120-1113-0000-D2]

Endangered and Threatened Wildlife and Plants; Permits

AGENCY: Fish and Wildlife Service, Interior.

ACTION: Notice of receipt of applications for permits.

SUMMARY: We announce our receipt of applications to conduct certain activities pertaining to enhancement of survival of endangered species.

DATES: Written comments on this request for a permit must be received by July 31, 2008.

ADDRESSES: Written data or comments should be submitted to the Assistant Regional Director, Fisheries—Ecological Services, U.S. Fish and Wildlife Service, P.O. Box 25486, Denver Federal Center, Denver, Colorado 80225-0486; facsimile 303-236-0027. Before including your address, phone number, e-mail address, or other personal indentifying information in your comment, you should be aware that your entire comment—including your personal identifying information—may be made publicly available at any time.

While you can ask us in your comment to withhold your personal identifying information from public review, we cannot guarantee that we will be able to do so. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to Section 10(a)(1)(A) of the Endangered Species Act of 1973, as amended (16 U.S.C. 1531 et seq.).

Applicant—Eric Zach, Nebraska Department of Roads, Lincoln, Nebraska, TE-186282. The applicant requests a permit to take American burying beetle (Nicrophorus americanus) in conjunction with recovery activities throughout the species' range for the purpose of enhancing its survival and recovery.

Applicant—William Busby, University of Kansas, Kansas Biological Survey, Lawrence, Kansas, TE-186231. The applicant requests a permit to take American burying beetle (Nicrophorus americanus) in conjunction with recovery activities throughout the species' range for the purpose of enhancing its survival and recovery.

Applicant—Chadwin Smith, Headwaters Corporation, Kearney, Nebraska, TE-183430. The applicant requests a permit to take interior least tern (Sterna antillarum athalassos) and piping plover (Charadrius melodus) in conjunction with recovery activities throughout the species' range for the purpose of enhancing their survival and recovery.

Applicant—Randy Wisthoff, Kansas City Zoo, Kansas City, Missouri, TE-183432. The applicant requests a permit to take Wyoming toad (Bufo baxteri) in conjunction with recovery activities throughout the species' range for the purpose of enhancing its survival and recovery.

Applicant—Paul Wolf, Utah State University, Logan, Utah, TE-057399. The applicant requests a renewed permit to take Primula maguirei (Maguire primrose) in conjunction with recovery activities throughout the species' range for the purpose of enhancing its survival and recovery.

Applicant—Mike Phillips, Turner Endangered Species Fund, Cimarron, New Mexico, TE-051139. The applicant requests a permit amendment to add reintroduction of black-footed ferrets (Mustela nigripes) to their permit in conjunction with recovery activities throughout the species' range for the purpose of enhancing its survival and recovery.

Applicant—U.S. Fish and Wildlife Service, Bozeman Fish Technology Center, Bozeman, Montana, TE-038970. The applicant requests a permit amendment to add take of bonytail (Gila elegans) and woundfin (Plagopterus argentissimus) to their permit in conjunction with recovery activities throughout the species' range for the purpose of enhancing their survival and recovery.

Applicant—John Sowell, Western State College of Colorado, Gunnison, Colorado, TE-186566. The applicant requests a permit to take Uncompahgre fritillary butterfly (Boloria acrocnema) in conjunction with recovery activities throughout the species' range for the purpose of enhancing its survival and recovery.

Dated: June 18, 2008.
Sharon R. Rose,
Acting Regional Director, Denver, Colorado.

[FR Doc. E8-14852 Filed 6-30-08; 8:45 am]

BILLING CODE 4310-55-P